DEPARTMENT OF TRANSPORTATION

Federal Aviation Administration

14 CFR Part 39

[Docket No. FAA-2006-24271; Directorate Identifier 2006-NM-006-AD; Amendment 39-14669; AD 2006-13-16]

RIN 2120-AA64

Airworthiness Directives; Boeing Model 727 Airplanes

AGENCY: Federal Aviation Administration (FAA), Department of Transportation (DOT).

ACTION: Final rule.

SUMMARY: The FAA is adopting a new airworthiness directive (AD) for certain Boeing Model 727 airplanes. This AD requires repetitive measurements of the freeplay of the left and right outboard aileron balance tabs and of the upper and lower rudder tabs, and related investigative/corrective actions if necessary. This AD also requires repetitive lubrication of the hinge bearings and rod end bearings of the outboard aileron balance tabs. This AD results from reports of freeplay-induced vibration of the outboard aileron balance tabs and rudder tabs. We are issuing this AD to prevent excessive vibration of the airframe during flight, which could result in divergent flutter and loss of control of the airplane.

DATES: This AD becomes effective August 1, 2006.

The Director of the Federal Register approved the incorporation by reference of a certain publication listed in the AD as of August 1, 2006.

ADDRESSES: You may examine the AD docket on the Internet at http://dms.dot.gov or in person at the Docket Management Facility, U.S. Department of Transportation, 400 Seventh Street, SW., Nassif Building, Room PL-401, Washington, DC.

Contact Boeing Commercial Airplanes, P.O. Box 3707, Seattle, Washington 98124-2207, for service information identified in this AD.

FOR FURTHER INFORMATION CONTACT: Dennis Stremick, Aerospace Engineer, Airframe Branch, ANM-120S, Seattle Aircraft Certification Office, FAA, 1601 Lind Avenue, SW., Renton, Washington 98055-4056; telephone (425) 917-6450; fax (425) 917-6590.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Boeing Model 727 series airplanes. That NPRM was published in the Federal Register on April 5, 2006 (71 FR 17033). That NPRM proposed to require repetitive measurements of the freeplay of the left and right outboard aileron balance tabs and of the upper and lower rudder tabs, and related investigative/corrective actions if necessary. That NPRM also proposed to require repetitive lubrication of the hinge bearings and rod end bearings of the outboard aileron balance tabs.

Comments

We provided the public the opportunity to participate in the development of this AD. We have considered the comments received.

Request for Clarification

Boeing requests that certain wording about the compliance times in the “Relevant Service Information” paragraph of the preamble of the NPRM be clarified for consistency purposes with the wording in Boeing Special Attention Service Bulletin 727-27-0234, dated November 10, 2005 (referred to as the appropriate source of service information for doing the actions specified in the NPRM).

We partially agree. We agree that the wording used to describe the compliance times could be clarified as Boeing suggested. However, the “Relevant Service Information” paragraph does not reappear in the final rule. Therefore, we find no change to the final rule is necessary in this regard.

Boeing also requests that the words “aileron balance tabs” in paragraph (g)(2) of the NPRM be changed to “outboard aileron balance tabs” for consistency purposes with the words in Boeing Special Attention Service Bulletin 727-27-0234.

We agree and have revised paragraph (g)(2) of this AD accordingly.

Conclusion

We have carefully reviewed the available data, including the comments received, and determined that air safety and the public interest require adopting the AD with the change described previously. We have determined that this change will neither increase the economic burden on any operator nor increase the scope of the AD.

Costs of Compliance

There are about 944 airplanes of the affected design in the worldwide fleet. The following table provides the estimated costs for U.S. operators to comply with this AD.

Estimated Costs
Action | Work hours | Average labor rate per hour | Cost per airplane | Number of U.S.-registered airplanes | Fleet cost
Freeplay measurement | 8 | $80 | $640, per measurement cycle | 539 | $344,960, per measurement cycle.
Lubrication | 4 | 80 | $320, per lubrication cycle | 539 | $172,480, per lubrication cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-13-16 Boeing: Amendment 39-14669. Docket No. FAA-2006-24271; Directorate Identifier 2006-NM-006-AD.

Effective Date

(a) This AD becomes effective August 1, 2006.

Affected ADs

(b) None.

Applicability

(c) This AD applies to Boeing Model 727, 727C, 727-100, 727-100C, 727-200, and 727-200F series airplanes, certificated in any category; as identified in Boeing Special Attention Service Bulletin 727-27-0234, dated November 10, 2005.

Unsafe Condition

(d) This AD results from reports of freeplay-induced vibration of the outboard aileron balance tab and rudder tab. We are issuing this AD to prevent excessive vibration of the airframe during flight, which could result in divergent flutter and loss of control of the airplane.

Compliance

(e) You are responsible for having the actions required by this AD performed within the compliance times specified, unless the actions have already been done.

Compliance Times

(f) Except as provided by paragraph (h) of this AD, at the applicable times specified in paragraph 1.E., “Compliance,” of Boeing Special Attention Service Bulletin 727-27-0234, dated November 10, 2005, do the actions specified in paragraph (g) of this AD. Where the service bulletin specifies a compliance time “from the initial release of this service bulletin,” this AD requires compliance within the applicable compliance time after the effective date of this AD.

Freeplay Measurement, Related Investigative and Corrective Actions, and Lubrication

(g) At the applicable times specified in paragraph (f) of this AD, do the actions specified in paragraphs (g)(1) and (g)(2) of this AD in accordance with the Accomplishment Instructions of Boeing Special Attention Service Bulletin 727-27-0234, dated November 10, 2005.

(1) Measure the freeplay of the left and right outboard aileron balance tabs and of the upper and lower rudder tabs, and do applicable related investigative and corrective actions if necessary.

(2) Lubricate the hinge bearings and rod end bearings of the outboard aileron balance tabs.

Concurrent Repetitive Cycles

(h) If a freeplay measurement required by paragraph (g)(1) of this AD and a lubrication cycle required by paragraph (g)(2) of this AD are due at the same time or will be done during the same maintenance visit, the freeplay measurement and applicable related investigative and corrective actions must be done before the lubrication.

Alternative Methods of Compliance (AMOCs)

(i)(1) The Manager, Seattle Aircraft Certification Office (ACO), FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

(3) An AMOC that provides an acceptable level of safety may be used for any repair required by this AD, if it is approved by an Authorized Representative for the Boeing Commercial Airplanes Delegation Option Authorization Organization who has been authorized by the Manager, Seattle ACO, to make those findings. For a repair method to be approved, the repair must meet the certification basis of the airplane, and the approval must specifically refer to this AD.

Material Incorporated by Reference

(j) You must use Boeing Special Attention Service Bulletin 727-27-0234, dated November 10, 2005, to perform the actions that are required by this AD, unless the AD specifies otherwise. The Director of the Federal Register approved the incorporation by reference of this document in accordance with 5 U.S.C. 552(a) and 1 CFR part 51. Contact Boeing Commercial Airplanes, P.O. Box 3707, Seattle, Washington 98124-2207, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on June 15, 2006.
Ali Bahrami,
Manager, Transport Airplane Directorate, Aircraft Certification Service.

[FR Doc. 06-5652 Filed 6-26-06; 8:45 am]

BILLING CODE 4910-13-P